DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Papahānaumokuākea Marine National Monument Permit Application and Reports for Permits.

OMB Control Number: 0648-0548.

Form Number(s): None.

Type of Request: Regular.

Number of Respondents: 411.

Average Hours per Response: Research, Conservation and Management and Education (“general” permits), 5 hours; Special Ocean Use permits, 10 hours; Native Hawaiian Practices permits, 8 hours; Recreation permits, 6 hours; permit amendment requests and final reports, 10 hours; and annual reports, 5 hours.

Burden Hours: 1,343.

Needs and Uses: President Bush established the Papahānaumokuākea Marine National Monument (Monument) by issuing Presidential Proclamation 8031 (Proclamation) on June 15, 2006, (71 FR 36443, June 26, 2006) under the authority of the Antiquities Act (Act) (16 U.S.C. 431). The Proclamation reserves all lands and interests in lands owned or controlled by the Government of the United States in the Northwestern Hawaiian Islands (NWHI), including emergent and submerged lands and waters, out to a distance of approximately 50 nautical miles (nmi) from the islands. The boundaries of the Monument as described in Presidential Proclamation 8031 are 100 miles wide and extend approximately 1200 miles around coral islands, seamounts, banks, and shoals. The area includes the Northwestern Hawaiian Islands Coral Reef Ecosystem Reserve, the Midway Atoll National Wildlife Refuge, the Hawaiian Islands National Wildlife Refuge, and the Battle of Midway National Memorial.

The Proclamation includes restrictions and prohibitions regarding activities in the Monument consistent with the authority provided by the Act. The Proclamation prohibits access to the Monument except when passing through the Monument without interruption or as allowed under a permit issued by the agencies. Vessels passing through the Monument without interruption are required to notify the agencies upon entering into and leaving the Monument. Individuals wishing to access the Monument to conduct certain regulated activities must first apply for and be granted a permit issued by the agencies pursuant to the Proclamation. Applicants must also certify compliance with certain vessel monitoring system requirements.

The information submitted in permit applications will, in general, only be used at the time the application is submitted to make a final decision on the application. Some of the information may also be used subsequent to the initial decision making to inform management actions or decision making. For example, a survey of a project location by one permit applicant may be used by the agencies in the future to respond to a vessel grounding in the same area in addition to facilitating the agencies' decision on that application. Information submitted in a report will be used to periodically assess the permittee's compliance with permit terms and conditions and to assist in evaluating the appropriateness of the permitted activity.

Affected Public: Individuals, non-profit institutions; Federal, State, local, government, Native Hawaiian organizations; business or other for-profit organizations.

Frequency: Permittees are required to submit a summary report due 30 days after the expiration of their permit; and an annual report due by 12/31 for each year their permit is active.

Respondent's Obligation: Required to retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2019-27738 Filed 12-23-19; 8:45 am]

BILLING CODE 3510-NK-P